ENVIRONMENTAL PROTECTION AGENCY

[FRL-7006-8]

Adequacy Status of Motor Vehicle Budgets in Submitted State Implementation Plans for Transportation Conformity Purposes; Maryland; Revisions to the Phase II Plan for the Baltimore Ozone Nonattainment Area: Revised To Reflect the Benefits of the Tier 2/Sulfur-in-Fuel Rule

AGENCY: Environmental Protection Agency (EPA).

ACTION: Notice of adequacy status.

SUMMARY: EPA is announcing that the revised motor vehicle emissions budgets (budgets) contained in the revised Phase II Plan for the Baltimore Ozone Nonattainment Area (the Baltimore area) submitted by the Maryland Department of the Environment (MDE) as a State Implementation Plan (SIP) revision are adequate for transportation conformity purposes. The revised Phase II Plan was submitted to EPA on December 28, 2001. These amendments to Maryland's Phase II Plan for the Baltimore area include revisions to its budgets to reflect the emission reduction benefits associated with the Tier 2 Vehicle Standards/Sulfur-in Fuel rule. EPA has found the budgets in Maryland's revised Phase II Plan for the Baltimore area adequate for transportation conformity purposes.

DATES: The findings that the budgets are adequate were made in a letter dated June 19, 2001, from EPA Region III to the Maryland Department of the Environment. These adequacy findings are effective on July 20, 2001.

FOR FURTHER INFORMATION CONTACT: Paul T. Wentworth, P.E., U.S. EPA, Region III, 1650 Arch Street, Philadelphia, PA 19103 at (215) 814-2183 or by e-mail at: wentworth.paul@epa.gov.

SUPPLEMENTARY INFORMATION: Throughout this document “we,” “us,” or “our” refer to EPA. The word “budgets” refers to the motor vehicle emission budgets for volatile organic compounds (VOCs) and nitrogen oxides (NOX). The word “SIP” in this document refers to the revised Phase II Plan for the Baltimore area submitted by MDE to EPA on December 28, 2000. The revised Phase II Plan includes the 2005 attainment demonstration motor vehicle emissions budgets for the Baltimore nonattainment area.

On March 2, 1999, the D.C. Circuit Court ruled that budgets contained in submitted SIPs cannot be used for conformity determinations until EPA has affirmatively found them adequate. By a transmittal letter dated December 28, 2000, the MDE formally submitted revisions to the Phase II Plan for the Baltimore area. On January 17, 2001, we posted the availability of the revised Phase II Plan and the budgets on our conformity website for the purpose of soliciting public comment on the adequacy of the budgets. The comment period closed on February 16, 2001.

On June 19, 2001, EPA Region III sent a letter to the Maryland Department of the Environment which constitutes final Agency action on the adequacy of the budgets contained in the revised Phase II SIP. Those actions were EPA's findings that the budgets of the revised Phase II plan submitted by MDE for the Baltimore area are adequate for transportation conformity purposes. As a result of our June 19, 2001 findings, the attainment budgets for 2005 contained in Maryland's December 28, 2000 revised Phase II SIP for the Baltimore nonattainment area may be used for future conformity determinations.

This is an announcement of adequacy findings that we have already made on June 19, 2001. The effective date of these findings is July 20, 2001. These findings will also be announced on EPA's website: http://www.epa.gov/oms/traq (once there, click on the “Conformity” button, then look for “Adequacy Review of Submissions for Conformity”). The website will also contain a detailed analysis of our adequacy findings and our responses to the comments submitted during our January 17, 2001-February 16, 2001 public comment period.

Transportation conformity is required by section 176 of the Clean Air Act. EPA's conformity rule requires that transportation plans, programs, and projects conform to SIPs and establishes the criteria and procedures for determining whether or not they do so. Conformity to a SIP means that transportation activities will not produce new air quality violations, worsen existing violations, or delay timely attainment of the National Ambient Air Quality Standards. The criteria by which EPA determines whether a SIP's budgets are adequate for conformity purposes are found 40 CFR 93.118(e)(4).

Please note that an adequacy finding for budgets contained in a SIP is separate from EPA's completeness determination of the SIP submission, and separate from EPA's action to approve or describe our process for determining the adequacy of submitted SIP budgets in guidance memorandum dated May 14, 1999 and titled “Conformity Guidance on Implementation of March 2, 1999 Conformity Court Decision”. We followed this guidance in making these adequacy findings of the budgets in Maryland's revised Phase II plan. You may obtain a copy of this guidance from EPA's conformity web site: http://www.epa.gov/oms/traq (once there, click on the “Conformity” button) or by calling the contact name listed in “For Further Information Contact” section of this notice.

Authority: 42 U.S.C. 7401-7671q.

Dated: June 22, 2001.
William C. Early,
Acting Regional Administrator, Region III.

[FR Doc. 01-16811 Filed 7-3-01; 8:45 am]

BILLING CODE 6560-50-P